DEPARTMENT OF COMMERCE

International Trade Administration

[Docket No. 970424097-0068-05]

RIN 0625-ZA05

Market Development Cooperator Program

AGENCY: International Trade Administration (ITA), Commerce.

ACTION: Notice.

SUMMARY: The ITA of the U.S. Department of Commerce (the Department) requests that eligible organizations submit proposals (applications) for the fiscal year (FY) 2000 Market Development Cooperator Program (MDCP) competition. The ITA promotes U.S. exports and works to improve the global competitiveness of the United States, creating jobs for Americans. The Department administers the MDCP to build public/private export marketing partnerships. The MDCP is a competitive matching grants program that provides Federal assistance to export multipliers such as state trade departments, trade associations, chambers of commerce, world trade centers and other non-profit industry organizations that are particularly effective in reaching small-and medium-size enterprises (SMEs).

MDCP awards help to underwrite the start-up costs of new export promotion ventures which these groups are often reluctant to undertake without Federal Government support. The MDCP aims to:

• Challenge the private sector to think strategically about foreign markets;

• Be the catalyst that spurs private-sector innovation and investment in export marketing; and

• Increase the number of American companies, particularly SMEs, taking decisive export actions.

Partnerships enable the Federal Government to pool expertise and funds with non-Federal sources so that each maximizes its market development resources. They can also sharpen the focus on long-term export market development better than traditional trade promotion activities. These partnerships are also a mechanism for improving government-industry relations.

While the Department sponsors, guides and partially funds MDCP projects, it expects applicants to develop, initiate and provide matching funding to carry out market development project activities. As an active partner, the Department will, as appropriate, provide assistance that the applicant identifies as essential to the achievement of project goals and objectives.

Examples of activities that might be included in an applicant's project proposal are described below under “I. Program Description”. The Department encourages applicants to propose activities that (1) would be most appropriate to the market development needs of their industry or industries; and (2) display the imagination and innovation of the applicants working in partnership with the government to obtain the maximum market development impact.

DATES: Public Meeting: The Department will hold a public meeting to discuss MDCP proposal preparation, procedures, and selection process on Monday, April 3, 2000. The meeting will begin at 1:30 p.m. in Room 3407, at the Herbert Clark Hoover Building, 14th and Constitution Avenue, N.W., Washington, D.C. No discussion of specific proposals will occur at this meeting. Attendance at this public meeting by potential applicants is not required.

Applications: Complete applications must be received no later than 5:00 p.m. Eastern Daylight Time, May 16, 2000. Late applications will not be accepted. They will be returned to the sender.

As set forth under III.B.2. Number of Copies, ITA is requesting one original application, plus six (6) copies. Applicants for whom this is a financial hardship should submit an original and two copies. Send the application to the address listed below under For Further Information Contact.

FOR FURTHER INFORMATION CONTACT: Mr. Brad Hess, Manager, Market Development Cooperator Program, Trade Development, ITA, U.S. Department of Commerce, 14th Street and Constitution Avenue, N.W., Room 3215, Washington, D.C. 20230, (202) 482-2969. The e-mail address is Brad_Hess@ita.doc.gov. The fax number is (202) 482-4462.

Information Online: Information on the Internet is available at http://www.ita.doc.gov/mdcp.

Application Kit: A kit with all forms necessary to participate in the MDCP application process is available at the Internet address identified above. This application kit also may be obtained via first-class mail by sending a legible mailing address to the “Contact” address listed above. The address as received will serve as the label for mailing a reply.

Pre-Application Counseling: Applicants with questions should contact the Department as soon as possible, while continuing to prepare their proposals. The Department will not extend the deadline for submitting applications.

The Department regularly provides information and responds to technical and procedural questions from entities which apply or may potentially apply for FY 2000 MDCP awards. Once the annual announcement of an awards competition appears in the Federal Register, however, the Department may not provide such entities with guidance regarding the merits of their applications or potential applications.

SUPPLEMENTARY INFORMATION: Authority: The Omnibus Trade and Competitiveness Act of 1988, Pub. L. No. 100-418, Title II, sec. 2303, 102 Stat. 1342, 15 U.S.C. 4723.¹

¹ Unless otherwise noted, all legal authorities cited in this notice may be accessed via the Internet at http://www.access.gpo.gov/ or at http://wwwsecure.law.cornell.edu/federal/.

Catalog of Federal Domestic Assistance (CFDA): No. 11.112, Market Development Cooperator Program.

I. Program Description

The goal of the MDCP as set out in authorizing legislation is to develop, maintain, and expand foreign markets for nonagricultural goods and services produced in the United States.² For purposes of this program, nonagricultural goods and service means goods and services other than agricultural products as defined in 7 U.S.C. 451.³

² 'Produced in the United States” means having substantial inputs of materials and labor originating in the United States, such inputs constituting at least 50 percent of the value of the good or service to be exported. The intended beneficiaries of the program are U.S. producers of non-agricultural goods or services that seek to export such goods or services. See “Trade Mission Application Form” ITA Form 4008P-1 (Rev. 8/97).

³ This definition includes “agricultural, horticultural, viticultural, and dairy products, livestock and the products thereof, the products of poultry and bee raising, the edible products of forestry, and any and all products raised or produced on farms and processed manufactured products thereof...”

A. Examples of Successful Proposals

Applicants should propose activities that would be most appropriate to the market development needs of the relevant U.S. industry. Examples of activities which applicants from prior years have found appropriate are set forth below. These are provided only for illustration. Applicants are not required to propose any of these activities.

1. Commissioning overseas market research, participating in overseas trade exhibitions and trade missions to promote U.S. exports, and/or hosting reverse trade missions;

2. Developing a website to connect international customers to U.S. telecommunications and Internet companies through a “virtual trade show.”

3. Conducting U.S. product demonstrations abroad;

4. Conducting export seminars in the United States or market penetration seminars in the market(s) to be developed;

5. Establishing technical trade servicing that helps overseas buyers choose the right U.S. goods or services and to use the goods or services efficiently;

6. Conducting joint promotions of U.S. goods or services with foreign partners;

7. Opening an overseas office to perform development services for companies who agree to participate. Such an office should not duplicate the programs or services of the U.S. and Foreign Commercial Service (US&FCS) post(s) in the region, but could include co-location with a US&FCS Commercial Center;

8. Detailing a private-sector representative to a US&FCS post in accordance with 15 U.S.C. 4723(c);

9. Training foreign nationals to perform after-sales service or to act as distributors for U.S. goods or services;

10. Improving market access for U.S. goods or services by working with organizations in the foreign marketplace responsible for setting standards and product testing;

11. Publishing an export resource guide or an export product directory for the U.S. industry or industries in question, if no comparable one exists; and

12. Establishing an electronic business information system to identify overseas trade leads and facilitate matches with foreign partners for U.S. businesses.

B. Funding

1. Type of Funding Instrument: Since the Department will be substantially involved in the implementation of each project for which an award is made, the funding instrument for this program will be a cooperative agreement.

2. Funding Availability: For FY 2000, the total funds expected to be available for this program are $2.0 million. The Department expects to conclude a minimum of five (5) cooperative agreements with eligible entities for this competition. No award will exceed $400,000, regardless of the duration of the cooperative agreement.

3. Matching Requirements: To receive MDCP funding, the applicant must contribute at least two dollars for each Federal dollar provided. So, for each Federal dollar of MDCP funding, the applicant must make at least one dollar of new cash outlays expressly for the project. The balance of the applicant's support may consist of in-kind contributions (goods and services).⁴

⁴ Recipient cash contributions are defined in 15 CFR Part 14, Sec. 14.2(g) as the award “recipient's cash outlay, including the outlay of money contributed to the recipient by third parties.”

a. Minimum Match: An example of the minimum match is set forth below. An applicant requesting $200,000 of Federal funds must supply, at a minimum, $200,000 of new cash outlays expressly for the project. As illustrated below, the remaining $200,000 of the required match, can be made up of additional new cash outlays or in-kind contributions.

Item | Federal share | Applicant match
Cash | 200,000 | 200,000
Cash or In-kind |  | 200,000
Total | 200,000 | 400,000

This example would establish a cost-share ratio of two-to-one, two applicant dollars for each dollar of Federal funds. The applicant assumes ⅔ of the total cost. In other words, 67 percent of the funding is provided by the applicant and 33 percent by the Federal Government. This means that in order to receive one dollar of Federal funds, the applicant must incur at least three dollars in project expenditures.

b. Additional Match: Applicants may propose projects for which the matching funding exceeds two applicant dollars to each Federal dollar. However, as set forth below, this will increase the cost-share ratio.

Item | Federal share | Applicant match
Cash | 200,000 | 200,000
Cash or In-kind |  | 400,000
Total | 200,000 | 600,000

This example would establish a cost-share ratio of three-to-one, three applicant dollars for each dollar of Federal funds. The applicant assumes ¾ of the total cost. In other words, 75 percent of the funding is provided by the recipient and 25 percent by the Federal Government. This means that in order to receive one dollar of Federal funds, the applicant must incur at least four dollars in project expenditures.

4. In-Kind Contributions: In the proposed budget, all in-kind contributions used to meet the applicant's share of costs are listed in a separate column from cash contributions. Applicants must describe these in-kind contributions separately in the application and in sufficient detail to determine that the requirements of 15 CFR Part 14.23(a), and 15 CFR Part 24.24 (a) and (b) are met.

5. Third Party Contributions: In order for an award recipient to outlay cash contributed by a third party, the third party must transfer the funds to the recipient. Otherwise, expenditures for goods and services contributed by a third party are considered to be in-kind contributions.

6. Indirect Costs: Federal funds may be used for a portion of the direct costs of each project, but not for indirect costs. Generally, direct costs result from activity specifically associated with an award, and usually include expenses such as personnel, fringe benefits, travel, equipment, supplies and contractual obligations relating directly to program activity. By contrast, indirect costs are generally those costs that are incurred regardless of whether there is activity associated with an award.

Federal funds may be used only to cover direct costs. The applicant must incur and pay direct costs that equal or exceed the amount of Federal funds. However, any portion of the balance of applicant's match may be used to cover indirect costs. For example, an applicant which requests $200,000 of Federal funds, must structure its match to include at least $200,000 of direct costs. The balance of the match, in this case $200,000, may be comprised entirely or partially of indirect expenses, as explained in greater detail below, under “Indirect Cost Rate.”

Costs | Federal share | Applicant match
Direct | 200,000 | 200,000
Indirect or Direct |  | 200,000
Total | 200,000 | 400,000

The Department will determine allowable costs on the basis of the applicable cost principles and definitions in OMB Circulars A-21, A-87, and A-122; in 45 CFR Part 74, Appendix E; and in 48 CFR Part 31.⁵

⁵ Access OMB circulars and forms at http://www.whitehouse.gov/omb/grants/index.html. Appendix E referred to on this OMB site is not listed separately. It is found at the end of 45 CFR 74.91, which may be accessed directly at http://www.access.gpo.gov/nara/cfr/waisidx 99/45cfr74 99.html.

7. Indirect Cost Rate: The Department funds cannot be used to pay indirect costs. The total dollar amount of the indirect costs proposed in an application under this program (using recipient funds) must not exceed the amount calculated using the indirect cost rate and negotiated and approved by a cognizant Federal agency prior to the proposed effective date of the award or 100 percent of the total proposed direct costs dollar amount in the application, whichever is less.⁶

⁶ Information on calculating an indirect cost rate is available at http://www2.dol.gov/dol/oasam/public/programs/guide.htm. Additional information on indirect cost rates is available at http://www.ntia.doc.gov/otiahome/tiiap/Application/97GUIDE.HTM.

8. Fee Income: Applicants may charge companies in the industry or other industry organizations reasonable fees to take part in or avail themselves of services provided as part of applicants' projects. Applicants should describe in detail any plans to charge fees. Fees generated under the award are program income and must be used for project-related purposes during the award period.

9. Approved Pre-Award-Period Expenditure: As a general matter, award recipients can request reimbursements only for costs incurred during the award period. However, if proposed in the application, award recipients can expend funds to attend an award-recipient orientation meeting even if it precedes the beginning of the award period. This orientation is usually held in Washington soon after the awards are announced. It is usually the first opportunity for award recipients to meet members of the Department's team. This allowable expenditure of funds prior to the beginning of the award period is limited to reimbursable expenses associated with attending the orientation.

10. Fees for Some Government Services: By winning an MDCP award, an applicant enters into a special relationship with ITA. (See I.C.1. Project Team below.) To fulfill its part of the partnership, ITA will provide, where possible, its resources to support project activities included in annual operating plans. (See I.C.3. Annual Operating Plan below.) However, ITA's ability to provide assistance free of charge is limited. For some services such as market research studies and Gold Key services, ITA is required to charge fees that recover costs. Applicants requiring ITA services that could involve charges should make provision in their budgets for such charges.

Information relating to charges for services provided in specific overseas markets can be obtained by contacting the Senior Commercial Officer (SCO) at each overseas post. Information relating to charges for services provided by Export Assistance Centers (EACs) throughout the United States can be obtained by contacting the relevant EAC director. The names of SCOs and EAC directors, and often the specific fees, can be found on the Internet via http://www.usatrade.gov.

C. Administration of Award Activity

1. Project Team: To administer each cooperative agreement, a project team is established including key personnel from the award-winning organization and officials from the Department who can help the award winner achieve MDCP project objectives. If representatives from other Federal agencies can make a meaningful contribution to the achievement of project objectives, they are invited to participate on the project team.

Each project team acts as a “board of directors” establishing direction for the project, recommending changes in the direction of the project, when necessary, and determining the mode of project operations and other management processes, coupled with close monitoring or operational involvement during the performance of project activities.

2. Award Period: Funds may be expended over the period of time required to complete the scope of work, but not to exceed three years from the start date of the award.

3. Annual Operating Plan: At the beginning of each year of the award period, the project team negotiates an annual operating plan, which is based on the work plan submitted in the application. The work plan sets forth a timetable for specific activities. In addition to this timetable, the annual operating plan includes team responsibilities for accomplishing each activity, and the budgeted cost of each activity. Annual operating plans are not part of the application. They are developed only after receipt of an award and designation of an ITA project team.

II. Eligibility

A. Definition of Eligible Entity

U.S. trade associations, non-profit industry organizations, state trade departments and their regional associations including centers for international trade development, and private industry firms or groups of firms in cases where no entity described above represents that industry, are eligible to apply for an MDCP cooperative agreement.

1. Trade Association: For the purpose of this program, a “trade association” is defined as a fee-based organization consisting of member firms in the same industry, or in related industries, or which share common commercial concerns. The purpose of the trade association is to further the commercial interests of its members through the exchange of information, legislative activities, and the like.

2. Non-Profit Industry Organization: For the purpose of this program, a “non-profit industry organization” is:

a. A small business development center operating under agreement with the Small Business Administration, or

b. An organization that has been granted status as a non-profit organization under Title 26 U.S.C. Section 501(c) (3), (4), (5), or (6) and operates as one of the following:

(1) A local, state, regional, or national chamber of commerce;

(2) A local, state, regional, or national board of trade;

(3) A local, state, regional, or national business, export or trade council/interest group;

(4) A local, state, regional, or national visitors bureau or tourism promotion group;

(5) A local, state, regional, or national economic development group;

(6) A small business development center;

(7) A world trade center; or

(8) A port authority.

B. Eligibility of Previous Award Recipients

The program aims to increase the sum of Federal and non-Federal export market development activities by using program funds to encourage new initiatives. MDCP funds are not intended to replace funds from other sources.

Expansion of the scope of an existing project also may qualify for funding consideration. Eligible organizations that have previously received an MDCP award may propose a new project or expansion of an existing project. See IV.A.4. Creativity and Capacity below.

C. Determination of Eligibility

1. Request for Determination: Prospective applicants can resolve questions regarding eligibility by requesting an eligibility determination. Requests should be made in writing accompanied by basic organizational documents (e.g., charters, articles of incorporation) and information on types of members, membership fees, ties to state trade departments or their regional associations, organization's purpose, and activities, and non-profit status under Internal Revenue Code provisions. Prospective applicants should submit eligibility determination requests as soon as possible if they wish to have determinations prior to the application submission deadline. This deadline will not be extended, and applicants should continue to work on proposals while awaiting the Department's eligibility determination.

2. Joint Ventures: Entities may join together to submit an application as a joint venture and to share costs. For joint venture applicants, one organization meeting the above eligibility criteria must be designated as the prospective MDCP award recipient organization for administrative purposes. For example, two trade associations representing different segments of a single industry or related industries may pool their resources and submit one application. Foreign businesses and private groups also may join with eligible U.S. organizations to submit applications and to share the costs of proposed projects.

3. Benefit to All Companies: The Department will accept applications from eligible entities representing any industry, subsector of an industry or related industries. Each applicant must permit all companies in the industry targeted in its proposal to participate in all activities that are scheduled as part of a proposed project whether or not the company is a member or constituent of the eligible organization.

III. Applications

A. Format

The basic elements of the application are set forth below. Instructions and required forms are provided in the Application Kit See the For Further Information Contact section for instructions on getting the Application Kit.

1. Executive Summary: The first element of the application is a one-page summary of the proposal.

2. Background Research: Developing a project plan requires solid background research. Applications should reflect the findings of the applicant's study of the following:

a. The market potential of the U.S. good(s) or service(s) to be promoted in a particular market(s);

b. The competition from host-country and third-country suppliers; and

c. The economic situation and prospects that bear upon the ability of a country to import the U.S. good(s) or service(s).

Applicants should present an assessment of industry resources that can be brought to bear on developing a market; the industry's ability to meet potential market demand expeditiously; and the industry's after-sales service capability in a particular foreign market(s).

3. Project Description: After describing their completed basic research, applicants should develop marketing plans that set forth the overall objectives of the projects and the specific activities applicants will undertake as part of these projects.

a. Work Plan: The project description should include a list of specific activities planned, including: (1) The different phases of the project, identifying each milestone and activity in chronological order; (2) the location where activities will take place; and (3) the ways the applicant intends to involve the Department of Commerce and/or other Federal agencies as partners in project activities.

b. Performance Measures: On August 3, 1993, the Government Performance and Results Act (GPRA) was enacted into law (Public Law 103-62). GPRA requires each Federal agency to submit a strategic plan for program activities to OMB. Among other things, each strategic plan must include “performance indicators to be used in measuring or assessing the relevant outputs, service levels and outcomes of each program activity.” While not abandoning outputs (units of products, including services, of an activity) as a measure of achievement, OMB directed agencies to focus more on outcomes (the resulting effect of the use or application of an output) as the primary indicator of the success of programs and activities.

The Department reports results using the GPRA measures defined for its programs and activities. Many of these measures apply only to the programs and activities of the Department and have little relevance to the activities of MDCP award winners. The following performance measures, however, have particular applicability to MDCP projects:

(1) Outcome Measures.

(a) Dollar value of exports resulting from outputs.

(b) Number of new-to-export firms participating in activities.

(c) Number of new-to-market firms participating in activities.

(d) Degree of customer satisfaction (value of outputs determined by perception of the customer based on their expectation of the output versus the plan, an agreed-upon specification, or other criteria).

(2) Output Measures.

(a) Number of counseling sessions.

(b) Number of clients counseled.

(c) Number of reports (publications) prepared.

(d) Number of copies of reports (publications) distributed.

(e) Number of trade events.

(f) Number of firms participating in trade events.

Applicants should be mindful of these performance measures and should use them wherever possible when estimating projected results in their proposals. Award recipients will be expected to use these measures in their quarterly reports and in their end-of-year assessments of project accomplishments. Each applicant should describe its recording and reporting system in its proposals. In order to demonstrate the success of their projects, applicants are encouraged to develop and utilize additional performance measures which would reasonably gauge the success of the project. Each recipient of an award should be prepared to record and report the results achieved from project activities.

c. Partnership: Applications should display the imagination and innovation of the private sector working in partnership with the government to obtain the maximum market development impact.

d. Project Funding Priorities: Project proposals must be compatible with U.S. trade and commercial policy. In addition, applicants are encouraged to address the Department's international trade priorities. See IV.A.3. Priorities and Partnership. The Department is interested in receiving proposals which include projects that:

(1) Maximize the participation of small- and medium-sized enterprises (SMEs) in international trade;

(2) E-commerce;

(a) Provide the basic instruction, assistance and applications to help SMEs to take the initial steps onto international e-commerce platforms and into international sales;

(b) Make SMEs aware of the unique advantages e-commerce presents as a low-cost low-risk tool to overcome SME reluctance to pursue marketing opportunities in and profit from foreign markets;

(3) Increase “hands-on” export education designed for SMEs through:

(a) Development of educational tools such as curricula and media, or;

(b) Company-specific assistance such as export business plan development, market research, customs counseling, competitive position assessment, trade event preparation, foreign distribution alliances, and securing financing.

(4) Provide technical assistance to developing economies to build commercial infrastructure such as regulatory practices;

(5) Develop non-traditional approaches to creating demand for the products/services developed from new U.S. technologies;

(6) Improve communication with and outreach to old and new private-sector international trade constituencies and initiate or enhance public/private export partnerships;

(7) Identify and/or work to eliminate tariff and non-tariff barriers to market access for U.S. goods or services, including working with organizations in the foreign marketplace responsible for setting standards and for product testing;

4. Credentials: Eligible entities desiring to participate in this program must demonstrate the ability to provide an established, competent, experienced staff and other resources to assure adequate development, supervision, and execution of the proposed project activities. Applicants must describe in detail all assistance expected from the Department or other Federal agencies to implement project activities successfully. Each applicant must provide a description of the membership/qualifications, structure and composition of the eligible entity, the degree to which the entity represents the industry or industries in question, and the role, if any, foreign membership plays in the affairs of the eligible entity. Applicants should summarize both the recent history of their industry or industries' competitiveness in the international marketplace and the export promotion history of the eligible entity and its partners that intend to work on the project. This should include a resume for the project director and principal staff and a projection of the amount of time each professional will devote to the project.

5. Finance and Budget: In addition to Form 424A “Budget Information—Non-Construction Programs”, applicants will provide a detailed budget for the project award period, supporting worksheets and explanations, a discussion of financial systems and projections, a history of financial programs, financial and organizational documents, and any additional evidence of financial responsibility.

6. Forms: The Application Kit includes the following forms which must be completed and included in an application: Forms SF-424 “Application for Federal Assistance,” SF-424A “Budget Information—Non-Construction Programs,” SF-424B “Assurances—Non-Construction Programs,” CD-346 “Applicant for Funding Assistance”; and Forms SF-LLL, CD-346, CD-511, and CD-512, which are described below under V.A. Other Requirements.

B. Submission of Applications

1. Number of Pages: The main body of the application is limited to 90 pages. There is no limit on the number of pages for appendices. The main body of the application should include the substance of applicant's proposal as identified in III.A.1. through III.A.5. above. Forms and documentation requested in the Application Kit, as well as any other information applicants wish to submit, must be provided as appendices.

Each page of the main body should be numbered. Tabbing and/or numbering of pages included as appendices facilitates application review.

The Department encourages applicants to submit applications that are complete and responsive. However, applicants should be discriminating in what they choose to include in the application.

2. Number of Copies: Each applicant must submit a signed original application. In addition, the Department encourages applicants to submit six (6) copies. Several copies will be needed in order for the Department to complete its evaluation. (As noted below under IV.B. Evaluation and Selection Procedures, four Selection Panel members and several Department staff will review each application.) However, if submitting six (6) copies creates a financial hardship, submit the minimum of two copies plus the original.

If an applicant submits an original and two copies or any other number of copies greater than two and less than six (6), the Department will make additional copies to allow all reviewers to read each application. However, the Department cannot guarantee that the copies will include features that are not easily reproduced on standard photocopy machines. For example, tabs might not be inserted, color pages might be reproduced in black and white, fold-out pages might not fold out, unusually sized (not 8.5″ × 11″) pages might be broken up, and the copies might be bound with staples or clips instead of the binding used for applicant-submitted material.

C. Retention of Applications

1. Award Winners: For each award winner, the Department of Commerce will retain the application for seven years. Copies of winning applications are distributed to project team members for their use in managing winning projects.

2. Unsuccessful and Ineligible Applicants: For each eligible application which does not win an award, and for each application determined to be ineligible, the Department of Commerce will retain the signed original of the application for seven years and will destroy the copies.

3. Late Applications Returned to Sender: Late applications are not accepted or retained. They are returned to the sender. However, the Department will retain a copy of the cover page or transmittal letter for seven years.

IV. Evaluation and Selection

A. Evaluation Criteria

The Department is interested in projects that demonstrate the possibility of both significant results during the project period and lasting benefits extending beyond the project period. To that end, consideration for financial assistance under the MDCP will be based upon the following evaluation criteria:

1. Export Success Potential: Potential of the project to generate export success stories and/or export initiatives in both the short-term and medium-term. For purposes of this program, an export initiative is defined as a significant expenditure of resources (time, people, or money) by the Chief Executive Officer (CEO) of a company in the active pursuit of export sales. Examples of export initiatives include, but are not limited to, the following:

a. Participating in an overseas trade promotion event;

b. Hiring an export manager;

c. Establishing an export department;

d. Exploring a new market through an overseas trip by the CEO;

e. Developing an export marketing/business plan;

f. Translating product literature into a foreign language;

g. Making product modifications to comply with foreign market requirements;

h. Commissioning an in-depth market research study;

i. Developing a website to connect international customers to U.S. telecommunications and Internet companies through a “virtual trade show.”

j. Advertising in a foreign business publication;

k. Undertaking an overseas direct-mail campaign to create product awareness;

l. Signing an agent/distributor;

m. Getting introduced to a potential foreign buyer;

n. Signing an export contract/filling an export order; or

o. Co-locating with a US&FCS Commercial Center.

Applicants should provide detailed explanations of projected results of the project.

2. Performance Measures: Projected increase (multiplier effect) in the number of U.S. companies operating in the market(s) selected, particularly SMEs, and the degree to which the project will help the industry in question increase or maintain market share in the market(s) selected. Applicants should provide quantifiable estimates of projected increases.

3. Priorities and Partnership: The degree to which the proposal furthers or is compatible with the Department's priorities stated above and the degree to which the proposal initiates or enhances partnership with the Department.

4. Creativity and Capacity: Creativity, innovation, and realism displayed by the work plan as well as the institutional capacity of the applicant to carry out the work plan. Creativity and innovation can be displayed in a variety of ways. Applicants might propose projects that include ideas not previously tried to promote a particular industry's goods or services in a particular market. Creativity can be demonstrated by the manner in which techniques are customized to meet the specific needs of certain client groups. A proposal can be creative in the way it brings together the strengths and resources of partners participating in project activities. Further, projects that focus on market development are inherently more creative than projects that focus only on export promotion. Market development is the process of identifying or creating emerging markets or market niches and modifying products to penetrate those markets. Market development is demand driven and designed to create long-term export capacity. In addition to promoting current sales of existing products, market development promotes future sales and future products.

Current or past MDCP applicants should be aware that to be in a position to earn the maximum number of points under this criterion, they should propose projects that are entirely new. A current or past MDCP recipient may propose an expansion of an existing or past MDCP project. In order to earn a high score on this criterion, the expansion should be the majority of the total project for the proposal. In addition, current or past MDCP applicants that apply proposing an expansion of an existing or past project must clearly demonstrate how the expansion, standing alone, is creative and innovative in accordance with the above definition.

5. Budget and Sustainability: Reasonableness of the itemized budget for project activities, the amount of the cash match that is readily available at the beginning of the project, and the probability that the project can be continued on a self-sustained basis after the completion of the award.

Current or past MDCP recipients who propose an expansion of an existing project must show how the expansion will achieve self-sustainability independent of current or past projects funded under the MDCP.

Each of the above criteria is worth a maximum of 20 points. The five criteria together constitute the application score. At 20 points per criterion, the total possible score is 100.

B. Evaluation and Selection Procedures

Office of Planning Coordination and Resource Management (OPCRM) staff will review each application for completeness as soon as practicable after the application is received. The applicant is responsible for submitting a complete application in a timely manner.

Prior to selection, each complete application receives a thorough evaluation. The steps of the evaluation and selection process are set forth below.

1. Eligibility Determination: OPCRM staff, in consultation with the Department's Office of General Counsel, reviews all applications to determine the eligibility of each applicant. If an applicant's eligibility is in question, the applicant is contacted to supply additional information or clarification.

2. Staff Review: When the eligibility review has been completed, the OPCRM Director invites comments on eligible applications from relevant offices within the Department (e.g., Trade Development (TD), Market Access & Compliance (MAC), and US&FCS). This review allows the Department experts in the industry sector or geographical region to assess the claims made in the applications. The Department staff comments provide insights into both the potential benefits and the potential difficulties associated with the applications.

3. OPCRM Review: At least three representatives of OPCRM review and comment on all applications using the evaluation criteria identified above. The MDCP Manager prepares a summary of OPCRM staff comments and organizes all comments by the Department staff and applications for the Selection Panel. The OPCRM and Department staff comments afford the Selection Panel the insights and breadth of experience of Department professionals. However, they have no official weight, and the Selection Panel is free to consider or disregard them as it sees fit.

4. Selection Panel Composition: The MDCP Manager forwards all of the eligible applications, along with all related materials, to the Selection Panel of senior managers at the Department.

This panel is chaired by the OPCRM Director and typically includes three other members, one each from the Department's TD, MAC, and US&FCS bureaus. Panel members are Office Directors or higher.

5. Selection Panel Scoring: Each Selection Panel member reviews each eligible application and assigns a score for each of the five criteria stated above. The scores of each Selection Panel Member for each application reviewed are maintained in the files for seven years. The individual criteria scores are averaged to determine the total score for each application.

6. Ranked Recommendation: Based on the scores assigned by Selection Panel members and deliberations by the Selection Panel, the Selection Panel forwards the applications with the ten highest total scores to the Assistant Secretary for Trade Development and recommends which of the ten proposals should receive funding. The Selection Panel's recommendation will not deviate from the rank order. This means, for example, that the Selection Panel cannot recommend funding for the application ranked seventh without recommending funding for applicants ranked first through sixth. The Selection Panel recommendation includes the Panel's written assessment of the strengths and weaknesses of the top ten applications.

7. Selection of Applications for Funding: From the top ten applications forwarded by the Selection Panel, the Assistant Secretary for Trade Development selects those applications which will receive funding. In addition to the evaluation criteria stated above, the Assistant Secretary for Trade Development may consider the following in making decisions:

a. The scores of individual reviewers and the Selection Panel's written assessments;

b. The degree to which applications satisfy the Department priorities as established under III.A.3.d. Project Funding Priorities above;

c. The geographic distribution of the proposed awards;

d. The diversity of industry sectors and overseas markets covered by the proposed awards;

e. The diversity of project activities represented by the proposed awards;

f. Avoidance of redundancy and conflicts with the initiatives of other Federal agencies; and

g. The availability of funds.

C. Announcement of Award Decisions

Award winners will be notified by letter. Once award winners formally accept their awards, the Department will issue a press release and list the award winners at the MDCP Internet address.

Within ten days of the announcement of the issuance of the press release, unsuccessful applicants will be notified in writing and invited to receive a debriefing from MDCP officers.

V. Other Requirements and Classification

A. Other Requirements

1. Federal Policies and Procedures: Recipients and subrecipients are subject to all Federal laws and Federal and Department of Commerce policies, regulations, and procedures applicable to Federal financial assistance awards.

2. Past Performance: Unsatisfactory performance under prior Federal awards may result in an application not being considered for funding.

3. Pre-Award Activities: Except at noted above in I.B.9. Approved Pre-Award-Period Expenditure, if applicants incur any costs prior to an award being made, they do so solely at their own risk of not being reimbursed by the government. Notwithstanding any verbal or written assurance that they may have received, there is no obligation on the part of the Department of Commerce to cover pre-award costs.

4. No Obligation for Future Funding: If an application is selected for funding, the Department of Commerce has no obligation to provide any additional future funding in connection with that award. Renewal of an award to increase funding or extend the period of performance is at the total discretion of the Department of Commerce.

5. Delinquent Federal Debts: No award of Federal funds shall be made to an applicant who has an outstanding delinquent Federal debt until either:

a. The delinquent account is paid in full;

b. A negotiated repayment schedule is established and at least one payment is received; or

c. Other arrangements satisfactory to the Department of Commerce are made.

6. Name Check Review: All applicants are subject to a name check review process. Name checks are intended to reveal if any key individuals associated with the applicant have been convicted of or are presently facing criminal charges such as fraud, theft, perjury, or other matters which significantly reflect on the applicant's management honesty or financial integrity. The name check review process is based on information applicants provide in Form CD-346 “Applicant for Funding Assistance”.

7. Primary Applicant Certifications: All primary applicants must submit a completed Form CD-511, “Certifications Regarding Debarment, Suspension and Other Responsibility Matters; Drug Free Workplace Requirements and Lobbying”. Explanations are provided below.

a. Non-Procurement Debarment and Suspension: Prospective participants (as defined at 15 CFR part 26, section 105) are subject to 15 CFR part 26, “Nonprocurement Debarment and Suspension” and the related section of the certification form prescribed above applies;

b. Drug-Free Workplace: Grantees (as defined at 15 CFR part 26, section 605) are subject to 15 CFR part 26, subpart F, “Government wide Requirements for Drug-Free Workplace (Grants)” and the related section of the certification form prescribed above applies;

c. Anti-Lobbying: Persons (as defined at 15 CFR part 28, section 105) are subject to the lobbying provisions of 31 U.S.C. 1352, “Limitations on use of appropriated funds to influence certain Federal contracting and financial transactions,” and the lobbying section of the certification form prescribed above applies to applications/bids for grants, cooperative agreements, and contracts for more than $100,000, and loans and loan guarantees for more than $150,000, or the single family maximum mortgage limit for affected programs, whichever is greater; and

d. Anti-Lobbying Disclosures: Any applicant that has paid or will pay for lobbying using any funds must submit Form SF-LLL, “Disclosure of Lobbying Activities,” as required under 15 CFR part 28, Appendix B.

8. Lower Tier Certifications: Recipients shall require applicants/bidders for sub-grants, contracts, subcontracts, or other lower tier covered transactions at any tier under the award to submit, if applicable, a completed Form CD-512, “Certifications Regarding Debarment, Suspension, Ineligibility and Voluntary Exclusion-Lower Tier Covered Transactions and Lobbying” and disclosure Form SF-LLL, “Disclosure of Lobbying Activities.” Form CD-512 is intended for the use of recipients and should not be transmitted to the Department of Commerce. SF-LLL submitted by any tier recipient or sub-recipients should be submitted to the Department of Commerce in accordance with the instructions contained in the award document.

9. False Statements: A false statement on an application is grounds for denial or termination of funds and grounds for possible punishment by a fine or imprisonment as provided in 18 U.S.C. 1001.

10. Intergovernmental Review: Applications under this program are not subject to Executive Order 12372, “Intergovernmental Review of Federal Programs.”

11. Buy American-Made Equipment and Products: Applicants are hereby notified that they will be encouraged, to the greatest extent practicable, to purchase American-made equipment and products with funding provided under this program.

12. Fly America Act: All award recipients must comply with the provisions of the Fly America Act, 49 U.S.C. 40118.

B. Classification

This notice has been determined to be not significant for purposes of Executive Order 12866. The standard forms referenced in this notice are cleared under OMB Control No. 0348-0043, 0348-0044, 0348-0040, and 0348-0046 pursuant to the Paperwork Reduction Act. Notwithstanding any other provision of law, no person is required to respond nor shall a person be subject to a penalty for failure to comply with a collection of information subject to the requirements of the Paperwork Reduction Act unless that collection of information displays a currently valid OMB Control Number.

Dated: March 14, 2000.
Robert W. Pearson,
Director, Office of Planning, Coordination and Resource Management, Trade Development, International Trade Administration, Department of Commerce.

[FR Doc. 00-6688 Filed 3-16-00; 8:45 am]

BILLING CODE 3510-DR-P